DEPARTMENT OF HEALTH AND HUMAN SERVICES

Administration for Children and Families

Submission for Office of Management and Budget Review; Evaluation of Resources To Support the Identification and Care of Children With Prenatal Substance or Alcohol Exposure in the Child Welfare System (Office of Management and Budget #0970-0608)

AGENCY: Children's Bureau, Administration for Children and Families, United States Department of Health and Human Services.

ACTION: Request for public comments.

SUMMARY: The Children's Bureau (CB), Administration for Children and Families (ACF), U.S. Department of Health and Human Services, is proposing to collect data for an evaluation of a set of resources that are being developed to support the identification and care of children with prenatal substance or alcohol exposure in the child welfare system.

DATES: Comments due within 30 days of publication. Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to http://www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION:

Description: Materials to begin this proposed information collection effort were initially approved in April 2023. The study is gathering data from end users of a toolkit of resources sponsored by CB in collaboration with the Centers for Disease Control and Prevention under an interagency agreement. The toolkit is intended to support child welfare agency staff in the identification and support of children living with prenatal exposure to alcohol and other substances. The data collected will be used in a formative evaluation of the toolkit, which will be guided by 3 research questions: (1) To what degree do agency staff find toolkit resource to be relevant and applicable to their work?; (2) To what degree do toolkit resources change agency staff attitudes and increase staff knowledge?; (3) What implementation approaches and organizational supports facilitate toolkit use by child welfare agencies? Data sources for this effort include 5 surveys that have been approved for use: (1) a survey to measure users' reactions to the toolkit; (2) a survey of users' attitudes toward prenatal alcohol exposure (PAE)-related issues; (3) a survey of users' knowledge about PAE-related issues; and (4 and 5) two versions of a survey of transfer potential and perceived competence, which measures users' sense of competence in PAE-related knowledge and skills and the extent to which users believe they will transfer knowledge/skills to their work. One version of this instrument contains the full survey and will be administered after users have been exposed to the full toolkit and its resources. The second version contains a smaller selection of key items from the survey, tailored to collect information from users after their exposure to each of 5 key modules of the toolkit. Newly proposed data collection will include (6) one focus group to assess user perspectives on changes to practice as a result of implementation and fit of the toolkit with the agency's diversity, equity, and inclusion efforts. All data will be collected in 2024 over the course of 6-9 months.

Respondents: Child welfare professionals, including state and/or county-level directors of child welfare agencies; supervisors; program staff (e.g., investigation/intake, case management, foster care/adoption/permanency, etc.); staff working in specialist roles that align with toolkit resources (e.g., data/quality improvement specialists); local or state agency managers involved in determining agency strategic plans and practice guidance (e.g., substance-exposed newborn program manager); training system lead staff.

Annual Burden Estimates

There are no updates to the burden estimates for previously approved instruments. This request adds the burden for the one new focus group protocol on implementation.

Instrument | Total number of respondents | Total number of responses per respondent | Average burden hours per response | Annual burden hours
Survey of reactions to the toolkit | 32 | 1 | .05 | 2
Survey of attitudes | 32 | 2 | .17 | 11
Survey of PAE-related knowledge | 32 | 3 | .27 | 26
Survey of transfer potential and perceived competency | 32 | 1 | .09 | 3
Module-specific transfer potential and perceived competency items | 32 | 5 | .03 | 5
Focus group protocol on implementation | 28 | 1 | 1.5 | 42

Estimated Total Annual Burden Hours: 89.

Authority: This information collection is related to and funded by CB, is authorized by the Child Abuse Prevention and Treatment Act Reauthorization Act, 42 U.S.C. 5105, (2010), and is being conducted by CB. This information collection complies with the statutory requirement to carry out research designed to provide information needed to improve the well-being of victims of child abuse or neglect. Specifically, this information collection complies with the requirement for evaluation of practices and programs to improve activities such as identification, screening, medical diagnosis, forensic diagnosis, health evaluations, and services, including activities that promote collaboration between (1) the child protective service system; and (2) (i) the medical community, including providers of mental health and developmental disability services; and (ii) providers of early childhood intervention services and special education for children who have been victims of child abuse or neglect.

Mary B. Jones,
ACF/OPRE Certifying Officer.

[FR Doc. 2023-22676 Filed 10-12-23; 8:45 am]

BILLING CODE 4184-29-P